DEPARTMENT OF HEALTH AND HUMAN SERVICES

[Document Identifier: OS-0990-0340]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: ARRA Section 3012 Health Information Technology Extension Program: Regional Centers Cooperative Agreement Program OMB # 0990-0340—Extension-Office of the National Coordinator for Health Information Technology.

Abstract: The first set of regional extension center awards will be made in February 2010. At this point each regional extension center (REC) will be provided with a customer relationship management (CRM) software tool, which they will use to help manage the work associated with the cooperative agreement. This tool will also assist the program to generate quarterly reports with will be submitted to project officers for review. In addition to tracking the key milestones identified in the FOA, the tool will also assist programs to provide information that is required for their ARRA reporting. The REC program is in the process of selecting a CRM vendor. Once this is completed it will submit the specific reports for clearance.

Estimated Annualized Burden Table
Forms (if necessary) | Type of respondent | Number of respondents | Number of responses per respondent | Average burden hours per response | Total burden hours
Quarterly Status report (format TBA) | REC applicant (not-for-profit organization) | 60 | 4 | 20 | 4,800
Program evaluation | REC applicant (not-for-profit organization) | 60 | 1 | 100 | 6,000
Total |  |  |  |  | 10,800

Seleda Perryman,
Office of the Secretary, Paperwork Reduction Act Reports Clearance Officer.

[FR Doc. 2010-2126 Filed 2-1-10; 8:45 am]

BILLING CODE 4150-45-P